INTERNATIONAL TRADE COMMISSION

Request for Comments Concerning the Institution of a Review Concerning the Commission's Affirmative Determination in Investigation No. 731-TA-1092 (Final); Diamond Sawblades and Parts Thereof From China

AGENCY: United States International Trade Commission.

ACTION: Notice.

SUMMARY: The Commission invites comments from the public on whether changed circumstances exist sufficient to warrant the institution of a review pursuant to section 751(b) of the Tariff Act of 1930 (19 U.S.C. 1675(b)) (the Act) to review the Commission's affirmative determination in investigation No. 731-TA-1092 (Final). The purpose of the proposed review is to determine whether revocation of the existing antidumping duty order on imports of diamond sawblades and parts thereof from China is likely to lead to continuation or recurrence of material injury (19 U.S.C. 1675(b)(2)(A)). The Commission further requests comments concerning the degree to which such a proceeding can be conducted in conjunction with the anticipated five-year review of the antidumping duty order on the same subject merchandise. This product is provided for in subheading 8202.39.00 of the Harmonized Tariff Schedule of the United States; such goods may be included in combinations of tools provided for in heading 8206.00.00.

DATES: Effective Date: August 2, 2013.

FOR FURTHER INFORMATION CONTACT: Douglas Corkran (202-205-3057), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this matter may be viewed on the Commission's electronic docket (EDIS) at http://edis.usitc.gov.

SUPPLEMENTARY INFORMATION: Background.—On May 22, 2006, the Department of Commerce (Commerce) determined that imports of diamond sawblades and parts thereof from China and Korea are being sold in the United States at less than fair value within the meaning of section 731 of the Act (19 U.S.C. 1673) (71 FR 29303 and 71 FR 29310, respectively). The Commission initially determined that a U.S. industry was not materially injured or threatened with material injury by reason of imports of diamond sawblades and parts thereof from China and Korea (71 FR 39128, July 11, 2006).

Following an appeal of the negative determinations and on remand from the U.S. Court of International Trade (CIT), the Commission determined that a U.S. industry was threatened with material injury by reason of imports of subject imports of diamond sawblades and parts thereof from China and Korea. On January 13, 2009, the CIT affirmed the Commission's affirmative determinations on remand. Diamond Sawblades Mfrs. Coalition v. United States, Slip Op. 09-05 (Ct. Int'l Trade 2009). On January 22, 2009, the Commission notified Commerce of the Court's decision, stating that it was a decision “not in harmony with” with the Commission's original negative determinations.

On February 10, 2009, Commerce published notice of the CIT's decision and suspended liquidation for entries of the subject merchandise after the effective date of the notice until the end of all appellate proceedings (74 FR 6570). On November 4, 2009, Commerce published orders that antidumping duties be imposed on imports of diamond sawblades and parts thereof from China and Korea, effective January 23, 2009 (74 FR 57145).

Following affirmance of the CIT's judgment by the U.S. Court of Appeals for the Federal Circuit and upon conclusion of all appellate proceedings in the action, the Commission published notice of its final determinations in the antidumping investigations of diamond sawblades and parts thereof from China and Korea (75 FR 68618, November 8, 2010).

On July 11, 2013, the Commission received a request to review its affirmative determination in investigation No. 731-TA-1092 (Final) pursuant to section 751(b) of the Act (19 U.S.C. 1675(b)). The request, filed by Husqvarna Construction Products North America, Inc. (Husqvarna), Olathe, Kansas, alleges several changes since the issuance of the Commission's remand determination. Specifically, Husqvarna notes Commerce's revocation of the antidumping duty order on imports of diamond sawblades and parts thereof from Korea; additional Commerce determinations with respect to Chinese exporter Advanced Technology & Materials Co., Ltd.; the acquisition of certain petitioners by non-U.S. producers of diamond sawblades, as well as changes in those petitioners' patterns of sourcing diamond sawblades; a reduction in the overlap of competition between subject imports and the domestic like product as a result of the preceding changes; and opposition to the continuation of the order on diamond sawblades and parts thereof from China by a “significant part of U.S. production.”

Written comments requested.—Pursuant to section 207.45(b) of the Commission's Rules of Practice and Procedure, the Commission requests comments concerning whether the alleged changed circumstances, brought about by the aforementioned changes in the imports of diamond sawblades and parts thereof subject to an antidumping duty order and in the U.S. producers' operations, production, and sales of the domestic like product, are sufficient to warrant institution of a review.

The Commission further requests comments concerning the degree to which any changed circumstances proceeding concerning diamond sawblades and parts thereof from China can be conducted in conjunction with the five-year review of the antidumping duty order on the same subject merchandise that Commerce is scheduled to initiate and the Commission is scheduled to institute in December 2013. If the Commission initiates a changed circumstances review, the review is likely to be conducted on an overlapping basis with the five-year review concerning diamond sawblades and parts thereof from China. Therefore, commenters are encouraged to address the nature of the respective inquiries, the data and other information necessary for the Commission's evaluation, and procedural considerations for the effective conduct of the reviews.

Written submissions.—Comments must be filed with the Secretary to the Commission by no later than October 15, 2013. All written submissions must conform with the provisions of sections 201.8 and 207.3 of the Commission's rules and any submissions that contain business proprietary information must also conform with the requirements of sections 201.6 and 207.7 of the Commission's rules. Please be aware that the Commission's rules with respect to electronic filing have been amended. The amendments took effect on November 7, 2011. See 76 FR 61937 (October 6, 2011) and the newly revised Commission's Handbook on E-Filing, available on the Commission's Web site at http://edis.usitc.gov.

Authority: This notice is published pursuant to section 207.45 of the Commission's rules.

By order of the Commission.
Issued: August 6, 2013.
Lisa R. Barton,
Acting Secretary to the Commission.

[FR Doc. 2013-19295 Filed 8-8-13; 8:45 am]

BILLING CODE 7020-02-P